DEPARTMENT OF ENERGY

Federal Energy Regulatory Commission

Combined Notice of Filings

Take notice that the Commission has received the following Natural Gas Pipeline Rate and Refund Report filings:

Filings Instituting Proceedings

Docket Numbers: RP24-1010-000.

Applicants: NEXUS Gas Transmission, LLC.

Description: 4(d) Rate Filing: Negotiated Rates—Castleton 860576 eff 9-1-24 to be effective 9/1/2024.

Filed Date: 8/29/24.

Accession Number: 20240829-5147.

Comment Date: 5 p.m. ET 9/10/24.

Docket Numbers: RP24-1011-000.

Applicants: Crossroads Pipeline Company LLC.

Description: 4(d) Rate Filing: Name Conversion—Crossroads Pipeline Company to Crossroads Pipeline Company LLC to be effective 9/1/2024.

Filed Date: 8/29/24.

Accession Number: 20240829-5205.

Comment Date: 5 p.m. ET 9/10/24.

Docket Numbers: RP24-1012-000.

Applicants: Texas Eastern Transmission, LP.

Description: 4(d) Rate Filing: Negotiated Rates—Total K911494 eff 9-1-24 to be effective 9/1/2024.

Filed Date: 8/29/24.

Accession Number: 20240829-5242.

Comment Date: 5 p.m. ET 9/10/24.

Docket Numbers: RP24-1013-000.

Applicants: Algonquin Gas Transmission, LLC.

Description: 4(d) Rate Filing: Negotiated Rates—Various Releases eff 9-1-24 to be effective 9/1/2024.

Filed Date: 8/30/24.

Accession Number: 20240830-5001.

Comment Date: 5 p.m. ET 9/11/24.

Docket Numbers: RP24-1014-000.

Applicants: Florida Gas Transmission Company, LLC.

Description: 4(d) Rate Filing: Fuel Filing on 8-30-24 to be effective 10/1/2024.

Filed Date: 8/30/24.

Accession Number: 20240830-5017.

Comment Date: 5 p.m. ET 9/11/24.

Docket Numbers: RP24-1015-000.

Applicants: NEXUS Gas Transmission, LLC.

Description: 4(d) Rate Filing: Negotiated Rates—Various Releases eff 9-1-2024 to be effective 9/1/2024.

Filed Date: 8/30/24.

Accession Number: 20240830-5049.

Comment Date: 5 p.m. ET 9/11/24.

Docket Numbers: RP24-1016-000.

Applicants: Maritimes & Northeast Pipeline, L.L.C.

Description: 4(d) Rate Filing: Negotiated Rates—Various Releases eff 9-1-24 to be effective 9/1/2024.

Filed Date: 8/30/24.

Accession Number: 20240830-5051.

Comment Date: 5 p.m. ET 9/11/24.

Docket Numbers: RP24-1017-000.

Applicants: Northern Natural Gas Company.

Description: 4(d) Rate Filing: 20240830 Negotiated Rate to be effective 9/1/2024.

Filed Date: 8/30/24.

Accession Number: 20240830-5064.

Comment Date: 5 p.m. ET 9/11/24.

Docket Numbers: RP24-1018-000.

Applicants: Trunkline Gas Company, LLC.

Description: 4(d) Rate Filing: New Non-Conforming NRA with Peoples Gas to be effective 9/1/2024.

Filed Date: 8/30/24.

Accession Number: 20240830-5066.

Comment Date: 5 p.m. ET 9/11/24.

Docket Numbers: RP24-1019-000.

Applicants: MarkWest Pioneer, L.L.C.

Description: 4(d) Rate Filing: Quarterly Fuel Adjustment Filing to be effective 10/1/2024.

Filed Date: 8/30/24.

Accession Number: 20240830-5070.

Comment Date: 5 p.m. ET 9/11/24.

Docket Numbers: RP24-1020-000.

Applicants: Trunkline Gas Company, LLC.

Description: 4(d) Rate Filing: Non-Conforming List Update (PGS) & Negotiated Rate Filing (TECO) to be effective 9/1/2024.

Filed Date: 8/30/24.

Accession Number: 20240830-5076.

Comment Date: 5 p.m. ET 9/11/24.

Docket Numbers: RP24-1021-000.

Applicants: MountainWest Pipeline, LLC.

Description: 4(d) Rate Filing: Change of Address and cleanup to be effective 10/1/2024.

Filed Date: 8/30/24.

Accession Number: 20240830-5080.

Comment Date: 5 p.m. ET 9/11/24.

Docket Numbers: RP24-1022-000.

Applicants: MountainWest Overthrust Pipeline, LLC.

Description: 4(d) Rate Filing: Change of Address and Cleanup to be effective 10/1/2024.

Filed Date: 8/30/24.

Accession Number: 20240830-5082.

Comment Date: 5 p.m. ET 9/11/24.

Docket Numbers: RP24-1023-000.

Applicants: White River Hub, LLC.

Description: 4(d) Rate Filing: Address Change and Cleanup filing to be effective 10/1/2024.

Filed Date: 8/30/24.

Accession Number: 20240830-5084.

Comment Date: 5 p.m. ET 9/11/24.

Docket Numbers: RP24-1024-000.

Applicants: Viking Gas Transmission Company.

Description: 4(d) Rate Filing: Electric Power Cost Recovery Adjustment—Interim Filing to be effective 10/1/2024.

Filed Date: 8/30/24.

Accession Number: 20240830-5086.

Comment Date: 5 p.m. ET 9/11/24.

Docket Numbers: RP24-1025-000.

Applicants: Florida Gas Transmission Company, LLC.

Description: 4(d) Rate Filing: New Service Agreement—Tampa Electric (TECO) to be effective 9/1/2024.

Filed Date: 8/30/24.

Accession Number: 20240830-5093.

Comment Date: 5 p.m. ET 9/11/24.

Docket Numbers: RP24-1026-000.

Applicants: Florida Gas Transmission Company, LLC.

Description: 4(d) Rate Filing: Update Non-Conforming List—TECO to be effective 9/1/2024.

Filed Date: 8/30/24.

Accession Number: 20240830-5096.

Comment Date: 5 p.m. ET 9/11/24.

Docket Numbers: RP24-1027-000.

Applicants: Gulf South Pipeline Company, LLC.

Description: 4(d) Rate Filing: Neg Rate Agmt (NextEra 57658) to be effective 9/1/2024.

Filed Date: 8/30/24.

Accession Number: 20240830-5105.

Comment Date: 5 p.m. ET 9/11/24.

Docket Numbers: RP24-1028-000.

Applicants: Kern River Gas Transmission Company.

Description: 4(d) Rate Filing: 2024 Victorville Cap Release NRG Negotiated Rate Filing to be effective 9/1/2024.

Filed Date: 8/30/24.

Accession Number: 20240830-5110.

Comment Date: 5 p.m. ET 9/11/24.

Docket Numbers: RP24-1029-000.

Applicants: Northern Natural Gas Company.

Description: 4(d) Rate Filing: 20240830 Baseline Tariffs Vol 1 and Vol 1A to be effective 9/30/2024.

Filed Date: 8/30/24.

Accession Number: 20240830-5114.

Comment Date: 5 p.m. ET 9/11/24.

Docket Numbers: RP24-1030-000.

Applicants: Colorado Interstate Gas Company, L.L.C.

Description: Compliance filing: Operational Purchase and Sales Report 2024 to be effective N/A.

Filed Date: 8/30/24.

Accession Number: 20240830-5122.

Comment Date: 5 p.m. ET 9/11/24.

Docket Numbers: RP24-1031-000.

Applicants: Stagecoach Pipeline & Storage Company LLC.

Description: 4(d) Rate Filing: Equinor Natural Gas LLC and EQT Energy LLC—SP396468,SP396469,SP388083,SP388082 to be effective 9/1/2024.

Filed Date: 8/30/24.

Accession Number: 20240830-5126.

Comment Date: 5 p.m. ET 9/11/24.

Docket Numbers: RP24-1032-000.

Applicants: Tennessee Gas Pipeline Company, L.L.C.

Description: 4(d) Rate Filing: Citadel/Equinor/EQT—SP396386/SP396470/SP369939 to be effective 9/1/2024.

Filed Date: 8/30/24.

Accession Number: 20240830-5130.

Comment Date: 5 p.m. ET 9/11/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP11-2473-000.

Applicants: Gulf South Pipeline Company, LP.

Description: Refund Report: Gulf South Pipeline Company, LLC submits tariff filing per 154.501: 2024 CICO Filing to be effective N/A.

Filed Date: 8/30/24.

Accession Number: 20240830-5079.

Comment Date: 5 p.m. ET 9/11/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: August 30, 2024.
Debbie-Anne A. Reese,
Acting Secretary.

[FR Doc. 2024-20141 Filed 9-5-24; 8:45 am]

BILLING CODE 6717-01-P